DEPARTMENT OF VETERANS AFFAIRS

Notice of Funds Availability Inviting Applications for the Rural Veterans Coordination; Amendment

AGENCY: Department of Veterans Affairs.

ACTION: Notice; second extension of NOFA application deadline.

SUMMARY: This notice extends the Department of Veterans Affairs (VA) application deadline for funds available under the Rural Veterans Coordination Pilot (RVCP) program. VA published a Notice of Funds Availability (NOFA) in the Federal Register on June 4, 2013 (78 FR 33472) to announce the availability of funds for applications beginning June 4, 2013 through July 19, 2013, 5 pm eastern standard time. VA also published a Notice; extension of NOFA application deadline in the Federal Register on June 25, 2013 (78 FR 38099) to allow applicants more time to complete the application process until September 19, 2013. The NOFA includes funding priorities for those applicants who will assist veterans and their families who are transitioning from military service to civilian life in rural or underserved communities. To allow applicants even more time to complete the application process, VA is extending the application deadline to midnight eastern standard time on October 4, 2013.

DATES: Applications must be received in accordance with this NOFA no later than midnight eastern standard time on October 4, 2013.

Applications must be uploaded as a complete package into http://www.Grants.gov. Applications may not be sent by fax.

In the interest of fairness to all competing applicants, this deadline of no later than midnight September 19, 2013, is firm as to date and hour, and VA will not consider any application that is received after the deadline.

FOR FURTHER INFORMATION CONTACT: Karen Malebranche, Veterans Health Administration, Office of Interagency Health Affairs (10P5), 810 Vermont Avenue NW., Washington, DC 20420, telephone (202) 461-4001. (This is not a toll-free number.)

For a copy of the Application Package: Download directly from http://www.ruralhealth.va.gov/coordination-pilot/index.asp. Questions should be referred to the RVCP Program Office at (202) 461-4001. (This is not a toll-free number.) For detailed program information and requirements, see the final rule published in the Federal Register on February 25, 2013 (78 FR 12617), which is codified at 38 CFR part 64.

Approved: September 18, 2013.
Robert C. McFetridge,
Director, Regulation Policy and Management, Office of the General Counsel, Department of Veterans Affairs.

[FR Doc. 2013-23097 Filed 9-23-13; 8:45 am]

BILLING CODE 8320-01-P